DEPARTMENT OF THE INTERIOR

Office of the Secretary

[17XD4523WS\DS10100000\DWSN00000.000000\DP10020]

Statement of Findings: Aamodt Litigation Settlement Act

AGENCY: Office of the Secretary, Interior.

ACTION: Notice.

SUMMARY: The Secretary of the Interior (Secretary) is publishing this notice in accordance with the Aamodt Litigation Settlement Act (Settlement Act). Congress enacted the Settlement Act as Title VI of the Claims Resolution Act of 2010. The publication of this notice causes the Settlement Agreement executed in accordance with the Settlement Act to remain applicable and causes certain waivers and releases of claims executed pursuant to the Settlement Act to become applicable.

DATES: This notice is applicable September 15, 2017.

FOR FURTHER INFORMATION CONTACT: Address all comments and requests for additional information to Christopher Banet, Chair, Aamodt Settlement Implementation Team, Department of the Interior, Bureau of Indian Affairs, Southwest Regional Office, 1001 Indian School Road NW., Albuquerque, NM 87104 (503) 563-3403, christopher.banet@bia.gov.

SUPPLEMENTARY INFORMATION: The Settlement Act was enacted to resolve water rights claims of the Pueblos of Pojoaque, Nambé, Tesuque, and San Ildefonso (Pueblos) in the Pojoaque River Basin—including the Rio Nambé, Rio Pojoaque, and Rio Tesuque stream systems and interrelated groundwater systems—in the State of New Mexico subject to an adjudication in the U.S. District Court (Court) in State of New Mexico ex rel. State Engineer v. Aamodt, No. 6:66-CV-6639 (D.N.M. filed 1966). The Settlement Parties include the four Pueblos; the County of Santa Fe; the City of Santa Fe; various individuals and entities; the State of New Mexico (State); and the United States (Settlement Parties).

The Settlement Act and underlying agreements quantify and define the Pueblos' water rights, including surface and groundwater within the Pojoaque River Basin as well as additional water to be supplied via contract from the Bureau of Reclamation's San Juan-Chama Project, and also recognizes certain non-Pueblo water entitlements and allocations, including for local governments and water districts. The Settlement Act and underlying agreements provide additional significant benefits to the Pueblos and local communities, including federal funding to help construct the Pojoaque Basin Regional Water System and federal funding to establish the Aamodt Pueblos Settlement Fund. The non-federal Settlement Parties submitted a signed Settlement Agreement to Congress prior to enactment of the Settlement Act, which has been revised and signed by the Settlement Parties pursuant to the terms of the Settlement Act. In order for the Settlement Agreement to remain enforceable, nine conditions precedent outlined in section 623 of the Settlement Act must be fulfilled by September 15, 2017.

Statement of Findings

In accordance with section 623(a)(2) of the Settlement Act, I find as follows:

(A) To the extent that the Settlement Agreement conflicted with the Settlement Act, the Settlement Agreement has been revised to conform with the Settlement Act.

(B) The Settlement Agreement, as revised, including waivers and releases pursuant to section 624 of the Settlement Act, has been executed by the appropriate parties and the Secretary.

(C) Congress has fully appropriated, or the Secretary has provided from other authorized sources, all funds authorized by section 617 of the Settlement Act, with the exception of subsection (a)(1) of that section.

(D) The Secretary has acquired and entered into appropriate contracts for the water rights described in section 613(a) of the Settlement Act.

(E) For purposes of section 613(a) of the Settlement Act, permits have been issued by the New Mexico State Engineer to the Pojoaque Basin Regional Water Authority (Authority) formed pursuant to section 9.5 of the Settlement Agreement to change the points of diversion to the mainstem of the Rio Grande for the diversion and consumptive use of at least 2,381 acre-feet by the Pueblos as part of the water supply for the Regional Water System, subject to the conditions that (i) the permits are free of any condition that materially adversely affects the ability of the Pueblos or the Authority to divert or use the Pueblo water supply described in section 613(a) of the Settlement Act, including water rights acquired in addition to those described in section 613(a) of the Settlement Act, in accordance with section 613(g) of the Settlement Act; and (ii) the Settlement Agreement establishes the means to address any permit conditions to ensure the ability of the Pueblos to fully divert and consume at least 2,381 acre-feet as part of the water supply for the Regional Water System, including defining the conditions that will not constitute a material adverse effect.

(F) The State has enacted necessary legislation and has provided funding as required under the Settlement Agreement.

(G) A partial final decree that sets forth the water rights and other rights to water to which the Pueblos are entitled under the Settlement Agreement and the Settlement Act and that substantially conforms to the Settlement Agreement has been approved by the Court.

(H) A final decree that sets forth the water rights for all parties to the Aamodt Case and that substantially conforms to the Settlement Agreement has been approved by the Court.

(I) The waivers and releases described in section 624 of the Settlement Act have been executed.

Ryan K. Zinke,
Secretary of the Interior.

[FR Doc. 2017-19541 Filed 9-14-17; 8:45 am]

BILLING CODE 4334-63-P